ENVIRONMENTAL PROTECTION AGENCY

40 CFR Part 55

[OAR-2004-0091; FRL-9093-9]

Outer Continental Shelf Air Regulations Consistency Update for California

AGENCY: Environmental Protection Agency (“EPA”).

ACTION: Proposed rule.

SUMMARY: EPA is proposing to update a portion of the Outer Continental Shelf (“OCS”) Air Regulations. Requirements applying to OCS sources located within 25 miles of States' seaward boundaries must be updated periodically to remain consistent with the requirements of the corresponding onshore area (“COA”), as mandated by section 328(a)(1) of the Clean Air Act, as amended in 1990 (“the Act”). The portion of the OCS air regulations that is being updated pertains to the requirements for OCS sources for which the South Coast Air Quality Management District (“South Coast AQMD” or “District”) is the designated COA. The intended effect of approving the OCS requirements for the South Coast AQMD is to regulate emissions from OCS sources in accordance with the requirements onshore. The changes to the existing requirements discussed below are proposed to be incorporated by reference into the Code of Federal Regulations and listed in the appendix to the OCS air regulations.

DATES: Any comments must arrive by January 20, 2010.

ADDRESSES: Submit comments, identified by docket number OAR-2004-0091, by one of the following methods:

1. Federal eRulemaking Portal: http://www.regulations.gov. Follow the on-line instructions.

2. E-mail: steckel.andrew@epa.gov.

3. Mail or deliver: Andrew Steckel (Air-4), U.S. Environmental Protection Agency Region IX, 75 Hawthorne Street, San Francisco, CA 94105-3901.

Instructions: All comments will be included in the public docket without change and may be made available online at http://www.regulations.gov, including any personal information provided, unless the comment includes Confidential Business Information (CBI) or other information whose disclosure is restricted by statute. Information that you consider CBI or otherwise protected should be clearly identified as such and should not be submitted through http://www.regulations.gov or e-mail. http://www.regulations.gov is an “anonymous access” system, and EPA will not know your identity or contact information unless you provide it in the body of your comment. If you send e-mail directly to EPA, your e-mail address will be automatically captured and included as part of the public comment. If EPA cannot read your comment due to technical difficulties and cannot contact you for clarification, EPA may not be able to consider your comment. Electronic files should avoid the use of special characters, any form of encryption, and be free of any defects or viruses.

Docket: The index to the docket for this action is available electronically at http://www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Cynthia G. Allen, Air Division (Air-4), U.S. EPA Region 9, 75 Hawthorne Street, San Francisco, CA 94105, (415) 947-4120, allen.cynthia@epa.gov.

SUPPLEMENTARY INFORMATION:

Table of Contents

I. Background and Purpose

II. EPA's Evaluation

III. Proposed Action

IV. Statutory and Executive Order Reviews

I. Background and Purpose

On September 4, 1992, EPA promulgated 40 CFR part 55,¹ which established requirements to control air pollution from OCS sources in order to attain and maintain Federal and State ambient air quality standards and to comply with the provisions of part C of title I of the Act. Part 55 applies to all OCS sources offshore of the States except those located in the Gulf of Mexico west of 87.5 degrees longitude. Section 328 of the Act requires that for such sources located within 25 miles of a State's seaward boundary, the requirements shall be the same as would be applicable if the sources were located in the COA. Because the OCS requirements are based on onshore requirements, and onshore requirements may change, section 328(a)(1) requires that EPA update the OCS requirements as necessary to maintain consistency with onshore requirements.

¹ See Notice of Proposed Rulemaking, December 5, 1991 (56 FR 63774), and the preamble to the final rule promulgated September 4, 1992 (57 FR 40792) for further background and information on the OCS regulations.

Pursuant to section 55.12 of the OCS rule, consistency reviews will occur (1) At least annually; (2) upon receipt of a Notice of Intent under section 55.4; or (3) when a State or local agency submits a rule to EPA to be considered for incorporation by reference in part 55. This proposed action is being taken in response to the submittal of requirements by the South Coast AQMD. Public comments received in writing within 30 days of publication of this document will be considered by EPA before publishing a final rule.

Section 328(a) of the Act requires that EPA establish requirements to control air pollution from OCS sources located within 25 miles of States' seaward boundaries that are the same as onshore requirements. To comply with this statutory mandate, EPA must incorporate applicable onshore rules into part 55 as they exist onshore. This limits EPA's flexibility in deciding which requirements will be incorporated into part 55 and prevents EPA from making substantive changes to the requirements it incorporates. As a result, EPA may be incorporating rules into part 55 that do not conform to all of EPA's State implementation plan (SIP) guidance or certain requirements of the Act. Consistency updates may result in the inclusion of State or local rules or regulations into part 55, even though the same rules may ultimately be disapproved for inclusion as part of the SIP. Inclusion in the OCS rule does not imply that a rule meets the requirements of the Act for SIP approval, nor does it imply that the rule will be approved by EPA for inclusion in the SIP.

II. EPA's Evaluation

In updating 40 CFR part 55, EPA reviewed the rules submitted for inclusion in part 55 to ensure that they are rationally related to the attainment or maintenance of Federal or State ambient air quality standards or part C of title I of the Act, that they are not designed expressly to prevent exploration and development of the OCS and that they are applicable to OCS sources. 40 CFR 55.1. EPA has also evaluated the rules to ensure they are not arbitrary or capricious. 40 CFR 55.12(e). EPA has excluded rules that regulate toxics, which are not related to the attainment and maintenance of Federal and State ambient air quality standards.

EPA is soliciting public comments on the issues discussed in this document or on other relevant matters. EPA will consider these comments before taking final action. Interested parties may participate in the Federal rulemaking procedure by submitting written comments to the EPA Region IX Office listed in the ADDRESSES section of this Federal Register.

III. Proposed Action

1. After review of the requirements submitted by the South Coast AQMD against the criteria set forth above and in 40 CFR part 55, EPA is proposing to make the following District requirements applicable to OCS sources. Earlier versions of these District rules are currently implemented on the OCS:

Rule # | Name | Adoption or amended date
301 | Permit Fees | 05/02/08
304 | Equipment, Materials, and Ambient Air Analyses | 05/02/08
304.1 | Analyses Fees | 05/02/08
306 | Plan Fees | 05/02/08
309 | Fees for Regulation XVI | 05/02/08
Regulation IX | Standards of Performance for New Stationary Sources | 04/04/08
Regulation X | National Emission Standards for Hazardous Air Pollutants | 04/04/08
1110.2 | Emissions from Gaseous- and Liquid-Fueled Engines | 02/01/08
1113 | Architectural Coatings | 07/13/07
1146 | Emissions of Oxides of Nitrogen from Industrial, Institutional, and Commercial Boilers, Steam Generators, and Process Heaters | 09/05/08
1146.1 | Emissions of Oxides of Nitrogen from Small Industrial, Institutional, and Commercial Boilers, Steam Generators, and Process Heaters | 09/05/08
1149 | Storage Tank and Pipeline Cleaning and Degassing | 05/02/08
1171 | Solvent Cleaning Operations | 02/01/08
1403 | Asbestos Emissions from Demolition/Renovation Activities | 10/05/07

The District also submitted the following new rules which are not currently in effect on the OCS, for incorporation into part 55. We are proposing to incorporate these rules into part 55:

303 | Hearing Board Fees | 05/02/08
313 | Authority To Adjust Fees and Due Dates | 05/02/08
1309.1 | Priority Reserve (Replaced) | 08/03/07
1315 | Federal New Source Review Tracking System (Readopted) | 08/03/07
1472 | Requirements for Facilities with Multiple Stationary Emergency Standby Diesel-Fueled Internal Combustion Engines | 03/07/08
2449 | Control of Oxides of Nitrogen Emissions from Off-Road Diesel Vehicles | 05/02/08

EPA is proposing not to incorporate into part 55 the following rule submitted by the South Coast AQMD, because it regulates toxics and is not rationally related to the attainment and maintenance of Federal or State ambient air quality standards or part C of title I of the Act:

1401 | New Source Review of Toxic Air Contaminants | 03/07/08

IV. Statutory and Executive Order Reviews

A. Executive Order 12866: Regulatory Planning and Review

Under the Clean Air Act, the Administrator is required to establish requirements to control air pollution from OCS sources located within 25 miles of States' seaward boundaries that are the same as onshore air control requirements. To comply with this statutory mandate, EPA must incorporate applicable onshore rules into part 55 as they exist onshore. 42 U.S.C. 7627(a)(1); 40 CFR 55.12. Thus, in promulgating OCS consistency updates, EPA's role is to maintain consistency between OCS regulations and the regulations of onshore areas, provided that they meet the criteria of the Clean Air Act. Accordingly, this action simply proposes to update the existing OCS requirements to make them consistent with requirements onshore, without the exercise of any policy discretion by EPA. For that reason, this proposed action:

• Is not a “significant regulatory action” subject to review by the Office of Management and Budget under Executive Order 12866 (58 FR 51735, October 4, 1993);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this proposed rule does not have tribal implications as specified by Executive Order 13175 (65 FR 67249, November 9, 2000), because it does not have a substantial direct effect on one or more Indian tribes, on the relationship between the Federal Government and Indian tribes, or on the distribution of power and responsibilities between the Federal Government and Indian tribes, nor does it impose substantial direct compliance costs on tribal governments, nor preempt tribal law.

Under the provisions of the Paperwork Reduction Act, 44 U.S.C. 3501 et seq., an agency may not conduct or sponsor, and a person is not required to respond to, a collection of information unless it displays a currently valid OMB control number. OMB has approved the information collection requirements contained in 40 CFR part 55 and, by extension, this update to the rules, and has assigned OMB control number 2060-0249. Notice of OMB's approval of EPA Information Collection Request (“ICR”) No. 1601.07 was published in the Federal Register on February 17, 2009 (74 FR 7432). The approval expires January 31, 2012. As EPA previously indicated (70 FR 65897-65898 (November 1, 2005)), the annual public reporting and recordkeeping burden for collection of information under 40 CFR part 55 is estimated to average 549 hours per response, using the definition of burden provided in 44 U.S.C. 3502(2).

List of Subjects in 40 CFR Part 55

Environmental protection, Administrative practice and procedure, Air pollution control, Hydrocarbons, Incorporation by reference, Intergovernmental relations, Nitrogen dioxide, Nitrogen oxides, Outer Continental Shelf, Ozone, Particulate matter, Permits, Reporting and recordkeeping requirements, Sulfur oxides.

Dated: December 1, 2009.
Laura Yoshii,
Acting Regional Administrator, Region IX.

Title 40 of the Code of Federal Regulations, part 55, is proposed to be amended as follows:

PART 55—[AMENDED]

1. The authority citation for part 55 continues to read as follows:

Authority: Section 328 of the Clean Air Act (42 U.S.C. 7401 et seq.) as amended by Pub. L. 101-549.

2. Section 55.14 is amended by revising paragraph (e)(3)(ii)(G) to read as follows:

§ 55.14 Requirements that apply to OCS sources located within 25 miles of states seaward boundaries, by state.

* * * * *

(e) * * *

(3) * * *

(ii) * * *

(G) South Coast Air Quality Management District Requirements Applicable to OCS Sources (Parts I, II and III), September 2009.

* * * * *

3. Appendix A to CFR Part 55 is amended by revising paragraph (b)(7) under the heading “California” to read as follows:

Appendix A to Part 55—Listing of State and Local Requirements Incorporated by Reference Into Part 55, by State

* * * * *

California

* * * * *

(b) * * *

(7) The following requirements are contained in South Coast Air Quality Management District Requirements Applicable to OCS Sources (Part I, II and III):

Rule 102 Definition of Terms (Adopted 12/3/04)

Rule 103 Definition of Geographical Areas (Adopted 01/9/76)

Rule 104 Reporting of Source Test Data and Analyses (Adopted 01/9/76)

Rule 108 Alternative Emission Control Plans (Adopted 04/6/90)

Rule 109 Recordkeeping for Volatile Organic Compound Emissions (Adopted 08/18/00)

Rule 112 Definition of Minor Violation and Guidelines for Issuance of Notice to Comply (Adopted 11/13/98)

Rule 118 Emergencies (Adopted 12/07/95)

Rule 201 Permit to Construct (Adopted 12/03/04)

Rule 201.1 Permit Conditions in Federally Issued Permits to Construct (Adopted 12/03/04)

Rule 202 Temporary Permit to Operate (Adopted 12/03/04)

Rule 203 Permit to Operate (Adopted 12/03/04)

Rule 204 Permit Conditions (Adopted 03/6/92)

Rule 205 Expiration of Permits to Construct (Adopted 01/05/90)

Rule 206 Posting of Permit to Operate (Adopted 01/05/90)

Rule 207 Altering or Falsifying of Permit (Adopted 01/09/76)

Rule 208 Permit and Burn Authorization for Open Burning (Adopted 12/21/01)

Rule 209 Transfer and Voiding of Permits (Adopted 01/05/90)

Rule 210 Applications (Adopted 01/05/90)

Rule 212 Standards for Approving Permits (Adopted 12/07/95) except (c)(3) and (e)

Rule 214 Denial of Permits (Adopted 01/05/90)

Rule 217 Provisions for Sampling and Testing Facilities (Adopted 01/05/90)

Rule 218 Continuous Emission Monitoring (Adopted 05/14/99)

Rule 218.1 Continuous Emission Monitoring Performance Specifications (Adopted 05/14/99)

Rule 218.1 Attachment A—Supplemental and Alternative CEMS Performance Requirements (Adopted 05/14/99)

Rule 219 Equipment Not Requiring a Written Permit Pursuant to Regulation II (Adopted 6/1/07)

Rule 220 Exemption—Net Increase in Emissions (Adopted 08/07/81)

Rule 221 Plans (Adopted 01/04/85)

Rule 301 Permitting and Associated Fees (Adopted 5/2/08) except (e)(7)and Table IV

Rule 304 Equipment, Materials, and Ambient Air Analyses (Adopted 5/2/08)

Rule 304.1 Analyses Fees (Adopted 5/2/08)

Rule 305 Fees for Acid Deposition (Rescinded 6/9/06)

Rule 306 Plan Fees (Adopted 5/2/08)

Rule 309 Fees for Regulation XVI (Adopted 5/2/08)

Rule 313 Authority to Adjust Fees and Due Dates (Adopted 5/2/08)

Rule 401 Visible Emissions (Adopted 11/09/01)

Rule 403 Fugitive Dust (Adopted 06/03/05)

Rule 404 Particulate Matter—Concentration (Adopted 02/07/86)

Rule 405 Solid Particulate Matter—Weight (Adopted 02/07/86)

Rule 407 Liquid and Gaseous Air Contaminants (Adopted 04/02/82)

Rule 408 Circumvention (Adopted 05/07/76)

Rule 409 Combustion Contaminants (Adopted 08/07/81)

Rule 429 Start-Up and Shutdown Exemption Provisions for Oxides of Nitrogen (Adopted 12/21/90)

Rule 430 Breakdown Provisions, (a) and (b) only (Adopted 07/12/96)

Rule 431.1 Sulfur Content of Gaseous Fuels (Adopted 06/12/98)

Rule 431.2 Sulfur Content of Liquid Fuels (Adopted 09/15/00)

Rule 431.3 Sulfur Content of Fossil Fuels (Adopted 05/7/76)

Rule 441 Research Operations (Adopted 05/7/76)

Rule 442 Usage of Solvents (Adopted 12/15/00)

Rule 444 Open Burning (Adopted 12/21/01)

Rule 463 Organic Liquid Storage (Adopted 05/06/05)

Rule 465 Refinery Vacuum-Producing Devices or Systems (Adopted 08/13/99)

Rule 468 Sulfur Recovery Units (Adopted 10/08/76)

Rule 473 Disposal of Solid and Liquid Wastes (Adopted 05/07/76)

Rule 474 Fuel Burning Equipment-Oxides of Nitrogen (Adopted 12/04/81)

Rule 475 Electric Power Generating Equipment (Adopted 08/07/78)

Rule 476 Steam Generating Equipment (Adopted 10/08/76)

Rule 480 Natural Gas Fired Control Devices (Adopted 10/07/77) Addendum to Regulation IV (Effective 1977)

Rule 518 Variance Procedures for Title V Facilities (Adopted 08/11/95)

Rule 518.1 Permit Appeal Procedures for Title V Facilities (Adopted 08/11/95)

Rule 518.2 Federal Alternative Operating Conditions (Adopted 12/21/01)

Rule 701 Air Pollution Emergency Contingency Actions (Adopted 06/13/97)

Rule 702 Definitions (Adopted 07/11/80)

Rule 708 Plans (Rescinded 09/08/95)

Regulation IX Standard of Performance for New Stationary Sources (Adopted 4/4/08)

Regulation X National Emission Standards for Hazardous Air Pollutants (Adopted 4/4/08)

Rule 1105.1 Reduction of PM10 And Ammonia Emissions From Fluid Catalytic Cracking Units (Adopted 11/07/03)

Rule 1106 Marine Coating Operations (Adopted 01/13/95)

Rule 1107 Coating of Metal Parts and Products (Adopted 1/6/06)

Rule 1109 Emissions of Oxides of Nitrogen for Boilers and Process Heaters in Petroleum Refineries (Adopted 08/05/88)

Rule 1110 Emissions from Stationary Internal Combustion Engines (Demonstration) (Repealed 11/14/97)

Rule 1110.1 Emissions from Stationary Internal Combustion Engines (Rescinded 06/03/05)

Rule 1110.2 Emissions from Gaseous-and Liquid Fueled Engines (Adopted 2/1/08)

Rule 1113 Architectural Coatings (Adopted 7/13/07)

Rule 1116.1 Lightering Vessel Operations-Sulfur Content of Bunker Fuel (Adopted 10/20/78)

Rule 1121 Control of Nitrogen Oxides from Residential-Type Natural Gas-Fired Water Heaters (Adopted 09/03/04)

Rule 1122 Solvent Degreasers (Adopted 10/01/04)

Rule 1123 Refinery Process Turnarounds (Adopted 12/07/90)

Rule 1125 Metal Container, Closure, and Coil Coating Operations (Adopted 3/7/08)

Rule 1129 Aerosol Coatings (Adopted 03/08/96)

Rule 1132 Further Control of VOC Emissions from High-Emitting Spray Booth Facilities (Adopted 5/5/06)

Rule 1134 Emissions of Oxides of Nitrogen from Stationary Gas Turbines (Adopted 08/08/97)

Rule 1136 Wood Products Coatings (Adopted 06/14/96)

Rule 1137 PM10 Emission Reductions from Woodworking Operations (Adopted 02/01/02)

Rule 1140 Abrasive Blasting (Adopted 08/02/85)

Rule 1142 Marine Tank Vessel Operations (Adopted 07/19/91)

Rule 1146 Emissions of Oxides of Nitrogen from Industrial, Institutional, and Commercial Boilers, Steam Generators, and Process Heaters (Adopted 9/5/08)

Rule 1146.1 Emission of Oxides of Nitrogen from Small Industrial, Institutional, and Commercial Boilers, Steam Generators, and Process Heaters (Adopted 9/5/08)

Rule 1146.2 Emissions of Oxides of Nitrogen from Large Water Heaters and Small Boilers (Adopted 5/5/06)

Rule 1148 Thermally Enhanced Oil Recovery Wells (Adopted 11/05/82)

Rule 1149 Storage Tank Cleaning and Degassing (Adopted 5/2/08)

Rule 1162 Polyester Resin Operations (Adopted 7/8/05)

Rule 1168 Adhesive and Sealant Applications (Adopted 01/07/05)

Rule 1171 Solvent Cleaning Operations (Adopted 2/1/08)

Rule 1173 Control of Volatile Organic Compounds Leaks and Releases From Components at Petroleum Facilities and Chemical Plants (Adopted 6/1/07)

Rule 1175 Control of Emissions from the Manufacture of Polymeric Cellular (Foam) Products (Adopted 9/7/07)

Rule 1176 VOC Emissions from Wastewater Systems (Adopted 09/13/96)

Rule 1178 Further Reductions of VOC Emissions from Storage Tanks at Petroleum Facilities (Adopted 4/7/06)

Rule 1301 General (Adopted 12/07/95)

Rule 1302 Definitions (Adopted 12/06/02)

Rule 1303 Requirements (Adopted 12/06/02)

Rule 1304 Exemptions (Adopted 06/14/96)

Rule 1306 Emission Calculations (Adopted 12/06/02)

Rule 1313 Permits to Operate (Adopted 12/07/95)

Rule 1315 Federal New Source Review Tracking System (Readopted) (Adopted 8/3/07)

Rule 1403 Asbestos Emissions from Demolition/Renovation Activities (Adopted 10/5/07)

Rule 1470 Requirements for Stationary Diesel-Fueled Internal Combustion and Other Compression Ignition Engines (Adopted 6/1/07)

Rule 1472 Requirements for Facilities with Multiple Stationary Emergency Standby Diesel-Fueled Internal Combustion Engines (Adopted 3/7/08)

Rule 1605 Credits for the Voluntary Repair of On-Road Motor Vehicles Identified Through Remote Sensing Devices (Adopted 10/11/96)

Rule 1610 Old-Vehicle Scrapping (Adopted 7/11/08)

Rule 1612 Credits for Clean On-Road Vehicles (Adopted 07/10/98)

Rule 1612.1 Mobile Source Credit Generation Pilot Program (Adopted 03/16/01)

Rule 1620 Credits for Clean Off-Road Mobile Equipment (Adopted 07/10/98)

Rule 1701 General (Adopted 08/13/99)

Rule 1702 Definitions (Adopted 08/13/99)

Rule 1703 PSD Analysis (Adopted 10/07/88)

Rule 1704 Exemptions (Adopted 08/13/99)

Rule 1706 Emission Calculations (Adopted 08/13/99)

Rule 1713 Source Obligation (Adopted 10/07/88)

Regulation XVII Appendix (effective 1977)

Rule 1901 General Conformity (Adopted 09/09/94)

Regulation XX Regional Clean Air Incentives Market (Reclaim)

Rule 2000 General (Adopted 05/06/05)

Rule 2001 Applicability (Adopted 05/06/05)

Rule 2002 Allocations for Oxides of Nitrogen (NOX) and Oxides of Sulfur (SOX) (Adopted 01/07/05)

Rule 2004 Requirements (Adopted 4/6/07) except (l)

Rule 2005 New Source Review for RECLAIM (Adopted 05/06/05) except (i)

Rule 2006 Permits (Adopted 05/11/01)

Rule 2007 Trading Requirements (Adopted 4/6/07)

Rule 2008 Mobile Source Credits (Adopted 10/15/93)

Rule 2009 Compliance Plan for Power Producing Facilities (Adopted 01/07/05)

Rule 2010 Administrative Remedies and Sanctions (Adopted 4/6/07)

Rule 2011 Requirements for Monitoring, Reporting, and Recordkeeping for Oxides of Sulfur (SOX) Emissions (Adopted 05/06/05)

Appendix A Volume IV—(Protocol for oxides of sulfur) (Adopted 05/06/05)

Rule 2012 Requirements for Monitoring, Reporting, and Recordkeeping for Oxides of Nitrogen (NOX) Emissions (Adopted 05/06/05)

Appendix A Volume V—(Protocol for oxides of nitrogen) (Adopted 05/06/05)

Rule 2015 Backstop Provisions (Adopted 06/04/04) except (b)(1)(G) and (b)(3)(B)

Rule 2020 RECLAIM Reserve (Adopted 05/11/01)

Rule 2100 Registration of Portable Equipment (Adopted 07/11/97)

Rule 2449 Controls of Oxides of Nitrogen Emissions from Off-Road Diesel Vehicles (Adopted 5/2/08)

Rule 2506 Area Source Credits for NOX and SOX (Adopted 12/10/99)

XXX Title V Permits

Rule 3000 General (Adopted 11/14/97)

Rule 3001 Applicability (Adopted 11/14/97)

Rule 3002 Requirements (Adopted 11/14/97)

Rule 3003 Applications (Adopted 03/16/01)

Rule 3004 Permit Types and Content (Adopted 12/12/97)

Rule 3005 Permit Revisions (Adopted 03/16/01)

Rule 3006 Public Participation (Adopted 11/14/97)

Rule 3007 Effect of Permit (Adopted 10/08/93)

Rule 3008 Potential To Emit Limitations (Adopted 03/16/01)

XXXI Acid Rain Permit Program (Adopted 02/10/95)

* * * * *

[FR Doc. E9-30154 Filed 12-18-09; 8:45 am]

BILLING CODE 6560-50-P